DEPARTMENT OF COMMERCE

National Oceanic and Atmospheric Administration

[I.D. 102104D]

Proposed Information Collection; Comment Request; Billfish Tagging Report

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 27, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to David Holts, Southwest Fishery Science Center, 8604 La Jolla Shores Drive, La Jolla, CA 92038-0271 or (phone 858-546-7186).

SUPPLEMENTARY INFORMATION:

I. Abstract

The National Oceanic and Atmospheric Administrations's Southwest Fishery Science Center operates a billfish tagging program. Tagging supplies are provided to volunteers. When they catch and tag fish they submit a brief report on the fish tagged and the location of the tagging. The information is used in conjunction with tag returns to determine billfish migration patterns, mortality rates, and similar information useful in the management of the fishery.

II. Method of Collection

A postcard-size paper form is used.

III. Data

OMB Number: 0648-0009.

Form Number: NOAA Form 88-162.

Type of Review: Regular submission.

Affected Public: Individuals or households.

Estimated Number of Respondents: 750 to 1200.

Estimated Time Per Response: 5 minutes.

Estimated Total Annual Burden Hours: 63.

Estimated Total Annual Cost to Public: $0.

IV. Request for Comments

Comments are invited on: (a) whether the proposed collection of information is necessary for the proper performance of the functions of the agency, including whether the information shall have practical utility; (b) the accuracy of the agency=s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2004.
Gwellnar Banks,
Management Analyst, Office of the Chief Information Officer.

[FR Doc. 04-24006 Filed 10-26-04; 8:45 am]

BILLING CODE 3510-22-S